NATIONAL FOUNDATION ON THE ARTS AND THE HUMANITIES

National Endowment for the Arts

Submission for OMB Review; Comment Request; Correction

AGENCY: National Endowment for the Arts, National Foundation on the Arts and the Humanities.

ACTION: Notice; correction.

SUMMARY: The National Endowment for the Arts published a document in the Federal Register of May 9, 2017, concerning the public information collection request (ICR) to the Office of Management and Budget (OMB) for review and approval in accordance with the Paperwork Reduction Act of 1995: Application for International Indemnification. The document contained an inaccurate Description.

FOR FURTHER INFORMATION CONTACT: Patricia Loiko, 202-682-5541.

SUPPLEMENTARY INFORMATION:

Correction

In the Federal Register of May 9, 2017 in FR Doc. 2017-09333, on page 21554, in the second column, correct the “Description” caption to read:

Description: This application form is used by non-profit, tax-exempt organizations (primarily museums), and governmental units to apply to the Federal Council on the Arts and the Humanities (through the NEA) for indemnification of eligible works of art and artifacts, borrowed from lenders abroad for exhibition in the United States, from within the United States when the foreign works of art are integral to the exhibition, or sent from the United States for exhibition abroad. The indemnity agreement is backed by the full faith and credit of the United States. In the event of loss or damage to an indemnified object, the Federal Council certifies the validity of the claim and requests payment from Congress. 20 U.S.C. 973 et seq. requires such an application and specifies information which must be supplied. This statutory requirement is implemented by regulation at 45 CFR 1160.4.

Dated: May 11, 2017.
Kathy Daum,
Director, Administrative Services Office, National Endowment for the Arts.

[FR Doc. 2017-09880 Filed 5-15-17; 8:45 am]

BILLING CODE 7537-01-P